DEPARTMENT OF LABOR

Employment and Training Administration

Investigations Regarding Certifications of Eligibility To Apply for Worker Adjustment Assistance

Petitions have been filed with the Secretary of Labor under section 221(a) of the trade Act of 1974 (“the Act”) and are identified in the Appendix to this notice. Upon receipt of these petitions, the director of the Division of Trade Adjustment Assistance, Employment and Training Administration, has instituted investigations pursuant to section 221 (a) of the Act.

The purpose of each of the investigations is to determine whether the workers are eligible to apply for adjustment assistance under Title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 5, 2002.

Interested persons are invited to submit written comments regarding the subject matter of the investigations to the Director, Division of Trade Adjustment Assistance, at the address shown below, not later than July 10, 2002.

The petitions filed in this case are available for inspection at the Office of the Director, Division of Trade Adjustment Assistance, Employment and Training Administration, U.S. Department of Labor, Room C-5311, 200 Constitution Avenue, NW., Washington, DC 20210.

Signed at Washington, DC, this 20th day of May, 2002.
Edward A. Tomchick,
Director, Division of Trade Adjustment Assistance.

Appendix
[Petitions instituted on 05/20/2002]
TA-W | Subject firm (Petitioners) | Location | Date of petition | Product(s)
41,547 | Church and Dwight (Co.) | Winsted, CT | 04/05/2002 | Dog Brushes, Collars, and Leashes.
41,548 | Universal Instruments (Wkrs) | Binghamton, NY | 04/22/2002 | Fabrications for Electronic Assembly.
41,549 | Philips (Wkrs) | Knoxville, TN | 04/12/2002 | Projection Television Sets.
41,550 | Lenz Ricker (Wkrs) | Totowa, NJ | 04/24/2002 | Legal Forms and Books
41,551 | Wabash Alumunium Alloy (Wkrs) | East Syracuse, NY | 03/01/2002 | Aluminum.
41,552 | SouthTech (Wkrs) | Tappahannock, VA | 04/29/2002 | Laser Beam Printers.
41,553 | Astechnologies (Wkrs) | Monroe, MI | 04/19/2002 | Laminated Composite Boards.
41,554 | International Utility (Co.) | Batesville, AR | 04/11/2002 | Utility Poles.
41,555 | Usibelli Coal Mine (Co.) | Healy, AK | 04/22/2002 | Low Sulfer Coal.
41,556 | Fedders Appliances (Wkrs) | Effingham, IL | 04/30/2002 | Air Conditioners.
41,557 | Battery Pack of America (Wkrs) | Durham, NC | 04/24/2002 | Rechargable Battery Packs.
41,558 | BASF Corporation (Co.) | Wilmington, NC | 05/02/2002 | Vitamin C.
41,559 | Southern Button (Wkrs) | Riviera Beach, FL | 04/12/2002 | Polyester Buttons.
41,560 | SRAM Corporation (Co.) | Colorado Spring, CO | 04/26/2002 | Forks, Rearshocks, Seatposts for Bikes.
41,561 | Casco Products (Wkrs) | Bridgeport, CT | 04/29/2002 | Car Lighters and Power Outlets.
41,562 | Florshiem Distribution (Wkrs) | Jefferson City, MO | 05/03/2002 | Warehouse & Distribution of Shoes.
41,563 | Clariant Corporation (Co.) | Oak Creek, WI | 05/08/2002 | Natural Oils, Polyurethane, Lacquers.
41,564 | Domtar A.W. (Co.) | Port Edwards, WI | 05/03/2002 | Uncoated Trade Paper.
41,565 | Washington Garment (Co.) | Washington, NC | 04/29/2002 | Children's Dresses.
41,566 | Johanna York (Wrks) | New York, NY | 11/29/2001 | Ladies Apparel.
41,567 | Virginia House Furniture (Co.) | Atkins, VA | 05/07/2002 | Bedroom Furniture.
41,568 | Invensys Sensor Systems (Wkrs) | El Paso, TX | 04/29/2002 | Plastic Molded Parts.
41,569 | ZF Meritor, LL Clutch (Wkrs) | Maxton, NC | 04/10/2002 | Heavy-Duty Clutch Assemblies.
41,570 | FMC Corporation (Wkrs) | Green River, WY | 04/23/2002 | Soda Ash.
41,571 | Framatome Connectors (Wkrs) | Etters, PA | 05/01/2002 | Optical Cable Assembles.
41,572 | RMH (Wkrs) | Scranton, PA | 04/30/2002 | Insurance Sales.
41,573 | J.R. Simplot (PACE) | Pocatello, ID | 05/10/2002 | Chemical Fertilizer.
41,574 | Agere Systems (Wkrs) | Breinigsville, PA | 02/04/2002 | Wavelength Pump Laser.
41,575 | Schlumberger Oilfield (Wkrs) | Midland, TX | 03/25/2002 | Oil Field Services.

[FR Doc. 02-15847 Filed 6-21-02; 8:45 am]

BILLING CODE 4510-30-M